ENVIRONMENTAL PROTECTION AGENCY

[FRL-7538-6]

Draft Brownfield Grants Guidelines

AGENCY: Environmental Protection Agency.

ACTION: Notice of public meeting.

SUMMARY: The Environmental Protection Agency (EPA) is holding a public meeting to discuss EPA's draft of the fiscal year 2004 Proposal Guidelines for Brownfields Assessment, Revolving Loan Fund, and Cleanup Grants (Brownfield Grants Guidelines). The purpose of the public meeting is for EPA's Office of Brownfields Cleanup and Redevelopment to listen to the views of public stakeholders on the Agency's draft Brownfield Grants Guidelines. During the public meeting, EPA officials will discuss the draft Guidelines. EPA will make the draft Brownfield Grants Guidelines available to the public on the Agency's Web site at http://www.epa.gov/brownfields on August 25, 2003. Interested stakeholders and the public are encouraged to download and review the draft guidelines prior to the public meeting.

DATES: The public meeting will be held from 10 a.m.-12 noon on September 8, 2003.

ADDRESSES: The public meeting will be held in Room 1153 EPA East Building at 1201 Constitution Avenue, NW, Washington, DC. Those parties that wish to submit written comments on the draft Brownfield Grants Guidelines must submit their comments to EPA no later than September 8, 2003. To ensure that EPA has adequate time to consider any written comments, the Agency encourages parties to submit their comments to the Agency in electronic format. Electronic comments may be submitted to EPA's Office of Brownfields Cleanup and Redevelopment at bf.comments@epa.gov. Parties wishing to submit their comments via the United States Postal Service should address their comments to: Ms. Becky Brooks, U.S. Environmental Protection Agency, Office of Brownfields Cleanup and Redevelopment, MC-5105T, 1200 Pennsylvania Avenue, NW, Washington, DC 20460. Hand deliveries should be sent to Ms. Becky Brooks, U.S. Environmental Protection Agency, Office of Brownfields Cleanup and Redevelopment, Room 2406, 1301 Constitution Avenue, NW, Washington, DC 20460.

FOR FURTHER INFORMATION CONTACT: For additional information, contact EPA's Office of Brownfields Cleanup and Redevelopment at 202-566-2777.

SUPPLEMENTARY INFORMATION: The FY2004 Brownfield Grants Guidelines will be issued under section 104(k) of the Comprehensive Environmental Response, Compensation, and Liability Act (CERCLA) as amended by the Small Business Liability Relief and Brownfields Revitalization Act, Public Law 107-118 (SBLRBRA). Guidelines for grant programs are exempt from notice and comment requirements under 5 U.S.C. 553(a)(2). However, the Agency has decided that consultation with public stakeholders prior to issuing the final version of the Brownfield Grants Guidelines is an appropriate step in effectively implementing the Brownfields Law.

The meeting is open to the general public. Parties wishing to provide their views to EPA on the draft FY04 Guidelines, or to listen to the views of other parties, are strongly encouraged to attend the public meeting. Interested parties not able to attend the public meeting on September 8, 2003, may submit written comments to the Agency. All written comments must be received by the Agency no later than September 8, 2003. The Agency will carefully consider comments received during the public meeting, as well as written comments received on or before September 8, 2003, prior to issuing final Brownfield Grants Guidelines in September 2003. However, due to the need to provide the final Guidelines to potential applicants promptly, EPA does not plan to respond in writing to written comments.

Dated: July 28, 2003.
Linda Garczynski,
Director, Office of Brownfields Cleanup and Redevelopment.

[FR Doc. 03-19746 Filed 8-1-03; 8:45 am]

BILLING CODE 6560-50-P